DEPARTMENT OF COMMERCE

National Oceanic and Atmospheric Administration

50 CFR Part 697

[Docket No. 010125024-1089-02; I.D. 121500D]

RIN 0648-AO88

American Lobster; Interstate Fishery Management Plans; Cancellation of Moratorium

AGENCY: National Marine Fisheries Service (NMFS), National Oceanic and Atmospheric Administration (NOAA), Commerce.

ACTION: Cancellation of Federal moratorium.

SUMMARY: NMFS announces the cancellation of the Federal moratorium on fishing for American lobsters in the State of Rhode Island waters. NMFS canceled the moratorium, as required by the Atlantic Coastal Fisheries Cooperative Management Act (Act), based on the determination that Rhode Island is now in compliance with the Atlantic States Marine Fisheries Commission’s (Commission) Interstate Fishery Management Plan (ISFMP) for American lobsters.

DATES: Effective April 17, 2001.

FOR FURTHER INFORMATION CONTACT: Richard H. Schaefer, Chief, Staff Office for Intergovernmental and Recreational Fisheries, NMFS, 301-427-2014.

SUPPLEMENTARY INFORMATION:

Background

On December 17, 2000, NMFS determined that Rhode Island was not in compliance with Amendment 3 to the Commission’s ISFMP for American lobster and that the measure Rhode Island failed to implement and enforce is necessary for the conservation of the American lobster fishery. Rhode Island was notified by letter on December 18, 2000, of this determination, and that NMFS required additional time to analyze the timing and impacts of the moratorium’s implementation before publishing a declaration of a moratorium, as required by law. The Act allows the effective date of the moratorium to be delayed for up to 6 months from the date on which the moratorium is declared.

On March 6, 2001 (66 FR 13443), NMFS declared a Federal moratorium on fishing for American lobsters in Rhode Island waters effective May 1, 2001, if Rhode Island has not complied with the Commission’s ISFMP for American lobster by that date. Details were provided in the March 6, 2001, Federal Register document and are not repeated here.

The Act specifies that, if, after a moratorium is declared with respect to a State, the Secretary of Commerce (Secretary) is notified by the Commission that it is withdrawing the determination of noncompliance, the Secretary shall immediately determine whether the State is in compliance with the applicable plan. If the State is determined to be in compliance, the moratorium shall be terminated. The Secretary’s decision-making authority under the Act has been delegated to NMFS.

Activities Pursuant to the Act

On April 6, 2001, the Secretary received a letter from the Commission prepared pursuant to the Act. The Commission's letter stated that Rhode Island has taken corrective action to comply with Amendment 3 to the Commission’s ISFMP for American lobsters by implementing and enforcing the nontrap gear limit of no more than 100 lobsters per day (based on a 24-hour period) up to a maximum of 500 lobsters per trip, for trips 5 days or longer as required by Amendment 3. The Commission found Rhode Island in compliance with the ISFMP for American lobster and withdrew its determination of noncompliance.

Cancellation of the Moratorium

Based on the Commission's April 6, 2001, letter, and a review of the ISFMP and Rhode Island’s revised regulations, NMFS determined that Rhode Island is now in compliance with Amendment 3 to the Commission's ISFMP for American lobster. Therefore, the moratorium on fishing for American lobsters in Rhode Island waters is canceled.

Dated: April 16, 2001.
Clarence G. Pautzke,
Acting Deputy Assistant Administrator for Regulatory Programs, National Marine Fisheries Service.

[FR Doc. 01-9864 Filed 4-17-01; 2:47 pm]

BILLING CODE 3510-22-S